DEPARTMENT OF COMMERCE

National Oceanic and Atmospheric Administration

[I.D. 112003A]

Endangered and Threatened Species; Take of Anadromous Fish

AGENCY: National Marine Fisheries Service (NMFS), National Oceanic and Atmospheric Administration, Commerce

ACTION: Issuance of Endangered Species Enhancement Permits 1395, 1396, and 1412

SUMMARY: This notice advises the public that three enhancement permits pursuant to the Endangered Species Act of 1973 (ESA), have been issued and that the decision documents are available upon request. Permit 1395 was issued jointly to the Washington Department of Fish and Wildlife (WDFW),the Public Utility District No. 1 of Chelan County (Chelan PUD), and the Public Utility District No. 1 of Douglas County (Douglas PUD). Permit 1396 was issued to the U.S. Fish and Wildlife Service (USFWS). Permit 1412 was issued to the Confederated Tribes of the Colville Reservation (Colville Tribes).

DATES: Permits 1395, 1396, and 1412 were issued on October 2, 2003, subject to certain conditions set forth therein. Permit 1395 expires October 2, 2013, and permits 1396 and 1412 expire October 2, 2008.

ADDRESSES: Requests for copies of the decision documents or any of the other associated documents should be directed to the Salmon Recovery Division, NMFS, 525 NE Oregon Street, Suite 510, Portland, Oregon, 97232.

FOR FURTHER INFORMATION CONTACT: Kristine Petersen, Portland, OR, at phone number: (503) 230-5409, e-mail: Kristine.Petersen@noaa.gov

SUPPLEMENTARY INFORMATION: The following species and evolutionarily significant units (ESUs) are covered in the permit:

Steelhead (Oncorhynchus mykiss): endangered Upper Columbia River.

Chinook salmon (O. tshawytscha): endangered Upper Columbia River spring run.

Notice of the proposed actions addressed in permit 1395 was published on August 1, 2002 (67 FR 49906). A public meeting was held in Wenatchee, WA, on August 27, 2002. Permit 1395 authorizes the WDFW, the Chelan PUD, and the Douglas PUD to carry out artificial propagation programs for the enhancement of listed upper Columbia River steelhead. The enhancement programs authorized under permit 1395 are designed to supplement the natural spawning populations of upper Columbia River steelhead in the Wenatchee River, Methow River, and Okanogan River basins and compenstate for inundation and unavoidable fish passage losses at Rock Island, Rocky Reach and Wells dams on the mainstem Columbia River as provided in three Habitat Conservation Plans. Additionally, it authorizes the WDFW to manage adult hatchery steelhead returns that are surplus to recovery and broodstock needs. After evaluating the potential effects of issuing this permit on listed salmon and steelhead in the Upper Columbia River ESUs and the environmental consequences, NMFS issued the permit with conditions authorizing takes of the ESA-listed anadromous fish species. NMFS' conditions will ensure that the takes of ESA-listed anadromous fish will not appreciably reduce the likelihood of the survival and recovery of the species in the wild. The permit expires October 2, 2013.

Notice of the proposed actions addressed in permit 1396 was published on August 1, 2002 (67 FR 49906). A public meeting was held in Wenatchee, WA on August 27, 2002. Permit 1396 authorizes the USFWS to carry out artificial propagation programs for the enhancement of listed upper Columbia River steelhead in the Methow River basin. The enhancement program authorized under permit 1396 is intended to mitigate for fish losses due to Grand Coulee Dam construction and supplement the natural spawning population in the Methow River. After evaluating the potential effects of issuing this permit on listed salmon and steelhead in the Upper Columbia River ESUs and the environmental consequences, NMFS issued the permit with conditions authorizing takes of the ESA-listed anadromous fish species. NMFS' conditions will ensure that the takes of ESA-listed anadromous fish will not appreciably reduce the likelihood of the survival and recovery of the species in the wild. The permit expires October 2, 2008.

Notice of proposed actions addressed in permit 1412 was published on January 14, 2003 (68 FR 1826). Permit 1412 authorizes the Colville Tribes to carry out artificial propagation programs for the enhancement of listed upper Columbia River steelhead in the Okanogan River basin. The enhancement program authorized under permit 1412 is designed to supplement and restore natural spawning of steelhead in Omak Creek, in the Okanogan River basin. After evaluating the potential effects of issuing this permit on listed salmon and steelhead in the Upper Columbia River ESUs and the environmental consequences, NMFS issued the permit with conditions authorizing takes of the ESA-listed anadromous fish species. NMFS' conditions will ensure that the takes of ESA-listed anadromous fish will not appreciably reduce the likelihood of the survival and recovery of the species in the wild. The permit expires October 2, 2003.

Issuance of these permits, as required by the ESA, was based on a finding that the permits: (1) were applied for in good faith; (2) will not operate to the disadvantage of the listed species which are the subject of the permit; and (3) is consistent with the purposes and policies set forth in section 2 of the ESA. These permits were issued in accordance with, and are subject to, 50 CFR part 222, the NMFS regulations governing listed species permits.

Dated: December 8, 2003.
Phil Williams,
Chief, Endangered Species Division, Office of Protected Resources, National Marine Fisheries Service.

[FR Doc. 03-30799 Filed 12-11-03; 8:45 am]

BILLING CODE 3510-22-S